GENERAL SERVICES ADMINISTRATION

[Notice-MA-2021-03; Docket No. 2021-0002; Sequence No. 15]

Maximum Per Diem Reimbursement Rates for the Continental United States (CONUS)

AGENCY: Office of Government-wide Policy (OGP), General Services Administration (GSA).

ACTION: Notice of GSA Per Diem Bulletin FTR 22-01, Fiscal Year (FY) 2022 CONUS per diem reimbursement rates.

SUMMARY: The GSA FY 2022 per diem reimbursement rates review has resulted in meal allowance changes for certain locations within CONUS to provide for reimbursement of Federal employees' subsistence expenses while on official travel. The FY 2022 maximum lodging allowance rates will remain unchanged at the FY 2021 levels.

DATES: Applicability Date: This notice applies to travel performed on or after October 1, 2021, through September 30, 2022.

FOR FURTHER INFORMATION CONTACT: For clarification of content, contact Sarah Selenich, Office of Government-wide Policy, Office of Asset and Transportation Management, at 202-969-7798, or by email at travelpolicy@gsa.gov. Please cite Notice of GSA Per Diem Bulletin FTR 22-01.

SUPPLEMENTARY INFORMATION:

Background

The CONUS per diem reimbursement rates prescribed in Bulletin 22-01 may be found at https://www.gsa.gov/perdiem. GSA bases the maximum lodging allowance rates on average daily rate, a widely accepted lodging industry measure. If a maximum lodging allowance rate and/or a meals and incidental expenses (M&IE) per diem reimbursement rate is insufficient to meet necessary expenses in any given location, Federal executive agencies can request that GSA review that location. Please review questions six and seven of GSA's per diem Frequently Asked Questions page at https://www.gsa.gov/perdiem for more information on the special review process. In addition, the Federal Travel Regulation (FTR) allows for actual expense reimbursement as provided in §§ 301-11.300 through 301-11.306.

For FY 2022, all current non-standard area (NSA) maximum lodging allowance rates will remain at FY 2021 levels. The standard lodging rate will also remain unchanged at $96. The M&IE reimbursement rates were revised for FY 2022; they were last revised in FY 2019. The M&IE NSA tiers are revised from $56-$76 to $59-$79, and the standard M&IE rate is revised from $55 to $59.

Notices published periodically in the Federal Register now constitute the only notification of revisions in CONUS per diem reimbursement rates to agencies, other than the changes posted on the GSA website.

Krystal J. Brumfield,
Associate Administrator, Office of Government-wide Policy.

[FR Doc. 2021-17491 Filed 8-13-21; 8:45 am]

BILLING CODE 6820-14-P